DEPARTMENT OF HOMELAND SECURITY

Coast Guard

33 CFR Part 165

[Docket No. USCG-2018-0661]

Safety Zones; Annual Events in the Captain of the Port Buffalo Zone—August and September Events

AGENCY: Coast Guard, DHS.

ACTION: Notice of enforcement of regulation.

SUMMARY: The Coast Guard will enforce certain safety zones located in Federal regulations for recurring marine events. This action is necessary and intended for the safety of life and property on navigable waters during these events. During each enforcement period, no person or vessel may enter the respective safety zone without the permission of the Captain of the Port Buffalo.

DATES: The regulations in 33 CFR 165.939 will be enforced during the month of August and September as noted in the SUPPLEMENTARY INFORMATION section below.

FOR FURTHER INFORMATION CONTACT: If you have questions about this notice of enforcement, call or email LTJG Sean Dolan, Chief of Waterways Management, U.S. Coast Guard Sector Buffalo; telephone 716-843-9322, email D09-SMB-SECBuffalo-WWM@uscg.mil.

SUPPLEMENTARY INFORMATION: The Coast Guard will enforce the Safety Zones; Annual Events in the Captain of the Port Buffalo Zone listed in 33 CFR 165.939 for the following events:

(1) Thunder on the Niagara Hydroplane Boat Races, North Tonawanda, NY; The safety zone listed in 33 CFR 165.939(c)(4) will be enforced from 9 a.m. to 6 p.m. on August 4, 2018, until August 5, 2018.

(2) D-Day Conneaut, Conneaut, OH; The safety zone listed in 33 CFR 165.939(c)(2) will be enforced from 9 a.m. to 5 p.m. on August 17, 2018, until August 18, 2018.

(3) Madison Township Light up the Park, Madison, OH; The safety zone listed in 33 CFR 165.939(d)(1) will be enforced from 9:15 p.m. to 10:15 p.m. on September 2, 2018.

(4) Cleveland National Air Show, Cleveland, OH; The safety zone listed in 33 CFR 165.939(d)(2) will be enforced daily from 9 a.m. to 6 p.m. August 30—September 3, 2018.

(5) Head of the Cuyahoga, Cleveland, OH; The safety zone listed in 33 CFR 165.939(d)(3) will be enforced from 6:45 a.m. to 4:15 p.m. on September 15, 2018.

Pursuant to 33 CFR 165.23, entry into, transiting, or anchoring within the safety zone during an enforcement period is prohibited unless authorized by the Captain of the Port Buffalo or his designated representative. Those seeking permission to enter the safety zone may request permission from the Captain of Port Buffalo via channel 16, VHF-FM. Vessels and persons granted permission to enter the safety zone shall obey the directions of the Captain of the Port Buffalo or his designated representative. While within a safety zone, all vessels shall operate at the minimum speed necessary to maintain a safe course.

This notice of enforcement is issued under authority of 33 CFR 165.939 and 5 U.S.C. 552(a). In addition to this notice of enforcement in the Federal Register, the Coast Guard will provide the maritime community with advance notification of this enforcement period via Broadcast Notice to Mariners or Local Notice to Mariners. If the Captain of the Port Buffalo determines that the safety zone need not be enforced for the full duration stated in this notice he or she may use a Broadcast Notice to Mariners to grant general permission to enter the respective safety zone.

Dated: July 25, 2018.
Joseph S. Dufresne,
Captain, U.S. Coast Guard, Captain of the Port Buffalo.

[FR Doc. 2018-16191 Filed 7-27-18; 8:45 am]

BILLING CODE 9110-04-P